DEPARTMENT OF HEALTH AND HUMAN SERVICES

Administration for Children and Families

Tribal Consultation Meeting

AGENCY: Office of Head Start (OHS), Administration for Children and Families, HHS.

ACTION: Notice of meeting.

SUMMARY: Pursuant to the Improving Head Start for School Readiness Act of 2007, Public Law 110-134, notice is hereby given of four 1-day Tribal Consultation Sessions to be held between the Department of Health and Human Services, Administration for Children and Families, Office of Head Start leadership and the leadership of Tribal Governments operating Head Start (including Early Head Start) programs. The purpose of these Consultation Sessions is to discuss ways to better meet the needs of American Indian and Alaska Native children and their families, taking into consideration funding allocations, distribution formulas, and other issues affecting the delivery of Head Start services in their geographic locations [42 U.S.C. 9835, Section 640(l)(4)].

DATES: March 10, 2014; June 9, 2014; July 31, 2014; and August 4, 2014.

Locations: 2014 Office of Head Start Tribal Consultation Sessions will be held at the following locations:

• Monday, March 10, 2014—Albuquerque, New Mexico—Albuquerque Marriott, 2101 Louisiana Boulevard NE., Albuquerque, New Mexico 87110;

• Monday, June 9, 2014—Bloomington, Minnesota—Minneapolis Airport Marriott, 2020 American Boulevard East, Bloomington, Minnesota 55425;

• Thursday, July 31, 2014—Tulsa, Oklahoma—6808 S. 107th East Avenue, Tulsa, Oklahoma 74133; and

• Monday, August 4, 2014—Airway Heights, Washington—Northern Quest Resort and Casino, 100 N. Hayford Road, Airway Heights, Washington 99001.

FOR FURTHER INFORMATION CONTACT: Robert Bialas, Regional Program Manager, Region XI, Office of Head Start, email Robert.Bialas@acf.hhs.gov or phone (202) 205-9497. Additional information and online meeting registration is available at http://content.cleverex.com/hslc/hs/calendar/tc2014.

SUPPLEMENTARY INFORMATION: The Department of Health and Human Services (HHS) announces Office of Head Start (OHS) Tribal Consultations for leaders of Tribal Governments operating Head Start and Early Head Start programs. As much as possible, the OHS Tribal Consultations are being scheduled in conjunction with other tribal events. The Consultation in Albuquerque is being held in conjunction with the Southwest Consortium of Indian Head Start Programs' 33rd Native American Child and Family Conference. The Consultation in Bloomington is being held in conjunction with the National Head Start Directors Association's 24th Management Training Conference. The Consultation in Tulsa is being held in conjunction with the Oklahoma Indian Head Start Directors Conference. The Consultation in Airway Heights is being held in conjunction with the Northwest Indian Head Start Coalition Conference.

The agenda for the scheduled OHS Tribal Consultations will be organized around the statutory purposes of Head Start Tribal Consultations related to meeting the needs of American Indian/Alaska Native children and families, taking into consideration funding allocations, distribution formulas, and other issues affecting the delivery of Head Start services in their geographic locations. In addition, OHS will share actions taken and in progress to address the issues and concerns raised in 2013 OHS Tribal Consultations.

The Consultation Session will be conducted with elected or appointed leaders of Tribal Governments and their designated representatives [42 U.S.C. 9835, Section 640(l)(4)(A)]. Designees must have a letter from the Tribal Government authorizing them to represent the tribe. The letter should be submitted at least 3 days in advance of the Consultation Session to Robert Bialas at Robert.Bialas@acf.hhs.gov. Other representatives of tribal organizations and Native nonprofit organizations are welcome to attend as observers.

A detailed report of the Consultation Session will be prepared and made available within 45 days of the Consultation Session to all Tribal Governments receiving funds for Head Start and Early Head Start programs. Tribes wishing to submit written testimony for the report should send testimony to Robert Bialas at Robert.Bialas@acf.hhs.gov either prior to the Consultation Session or within 30 days after the meeting.

Oral testimony and comments from the Consultation Session will be summarized in each report without attribution, along with topics of concern and recommendations. Hotel and logistical information for each Consultation Session has been sent to tribal leaders via email and posted on the Early Childhood Learning and Knowledge Center Web site at http://content.cleverex.com/hslc/hs/calendar/tc2014.

Dated: February 11, 2014.
Ann Linehan,
Acting Director, Office of Head Start.

[FR Doc. 2014-03603 Filed 2-19-14; 8:45 am]

BILLING CODE 4184-40-P